DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: State Administrative Plan for the Hazard Mitigation Grant Program.

OMB Number: 1660-0026.

Abstract: State grant recipients of Hazard Mitigation Grant Program (HMGP) funds are required under section 404 of the Robert T. Stafford Disaster Relief and Emergency Assistance Act (Public Law 93-288, as amended) to develop or review/update a State Administration Plan after each disaster declaration that describes how the State will manage such funds. FEMA is responsible for reviewing and approving the plan for compliance with the requirements of 44 CFR 206.437.

Affected Public: State, local, or tribal government.

Number of Respondents: 32.

Estimated Time per Respondent: 8 hours.

Estimated Total Annual Burden Hours: 384.

Frequency of Response: On occasion.

Comments: Interested persons are invited to submit written comments on the proposed information collection to the Office of Information and Regulatory Affairs, Office of Management Budget, Attention: Nathan Lesser, Desk Officer, Department of Homeland Security/FEMA, and sent via electronic mail to oira_submission@omb.eop.gov or faxed to (202) 395-6974. Comments must be submitted on or before July 11, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: June 4, 2007.
John A. Sharetts-Sullivan,
Chief, Records Management and Privacy, Information Resources Management Branch, Information Technology Services Division, Federal Emergency Management Agency, Department of Homeland Security.

[FR Doc. E7-11174 Filed 6-8-07; 8:45 am]

BILLING CODE 9110-11-P